DEPARTMENT OF TRANSPORTATION

Surface Transportation Board

Notice of Final Action Under Paperwork Reduction Act

AGENCY: Surface Transportation Board, DOT.

ACTION: OMB Extension of Approval of Information Collection.

SUMMARY: Pursuant to the Paperwork Reduction Act, 44 U.S.C. 3501 et seq. (PRA) and Office of Management and Budget (OMB) regulations at 5 CFR 1320.10, the Surface Transportation Board has obtained an extension of OMB's approval for the information collection, required under 49 CFR 1114.30(d), 1121.3(d), 1150.33(h), 1150.43(h), and 1180.4(g)(4), of certain agreements that contains rail interchange commitments (OMB Control Number 2140-0016).

Unless renewed, OMB approval expires on August 31, 2014. The display of a currently valid OMB control number for this collection is required by law. Under the PRA and 5 CFR 1320.8, an agency may not conduct or sponsor, and a person is not required to respond to, a collection of information unless the collection displays a currently valid OMB control number.

Dated: October 28, 2011.
Jeffrey Herzig,
Clearance Clerk.

[FR Doc. 2011-28464 Filed 11-2-11; 8:45 am]

BILLING CODE 4915-01-P